DEPARTMENT OF HEALTH AND HUMAN SERVICES

National Institutes of Health

National Institute of Allergy and Infectious Diseases; Amended Notice of Meeting

Due to the recent tragic events in the United States and resultant travel limitations, notice is hereby given of changes to the meeting of the National Advisory Allergy and Infectious Diseases Council, September 24, 8:30 AM to adjournment, Natcher Building, Conference Room D, Bethesda, MD 20892 which was published in the Federal Register on August 29, 2001, 66 FR, 45686.

The Immunology and Transplantation Subcommittee, the Microbiology and Infectious Diseases Subcommittee, and the Acquired Immunodefiency Syndrome Subcommittee will hold their closed sessions as telephone conference calls from 11:00 am to 12:30 pm.

The meeting of the National Advisory Allergy and Infectious Diseases Council will be held as a telephone conference call to review grant applications. The meeting will be held at NIH, 9000 Rockville Pike, Building 31, Room 7A03, Bethesda, MD 20802 beginning from 2:00 pm to adjournment. The meeting will be closed to the public.

Dated: September 19, 2001.
LaVerne Y. Stringfield,
Director, Office of Federal Advisory Committee Policy.

[FR Doc. 01-24361 Filed 9-27-01; 8:45 am]

BILLING CODE 440-01-M